NATIONAL SCIENCE FOUNDATION

Notice of Meeting for the Proposal Review Panel for Materials Research; Correction

ACTION: Notice; correction.

SUMMARY: The National Science Foundation (NSF) published a document in the Federal Register of January 21, 2022, concerning a Part-open, 1-day, virtual site visit meeting for the Proposal Review Panel for Materials Research. The virtual site visit date will be corrected from April 27, 2022 to May 27, 2022.

FOR FURTHER INFORMATION CONTACT: Please contact Crystal Robinson crrobins@nsf.gov or 703-292-8687.

SUPPLEMENTARY INFORMATION:

Correction

In the Federal Register published January 21, 2022, in FR Doc. 2022-01100 (Filed 1-20-22; 8:45 a.m.), on page 3369, first column, Date and Time Section, please change the meeting date to May 27, 2022.

Dated: January 26, 2022.
Crystal Robinson,
Committee Management Officer, National Science Foundation.

[FR Doc. 2022-01910 Filed 1-28-22; 8:45 am]

BILLING CODE 7555-01-P